DEPARTMENT OF THE INTERIOR

Geological Survey

Federal Geographic Data Committee (FGDC); Public Review of the Digital Cartographic Standard for Geologic Map Symbolization

ACTION: Notice; Request for comments.

SUMMARY: The FGDC is conducting a public review of the proposed Digital Cartographic Standard for Geologic Map Symbolization. The purpose of this public review is to provide data users and producers an opportunity to comment on this standard in order to ensure that it meets their needs.

Participants in the public review are encouraged to provide comments that address specific issues/changes/additions that may result in revisions to the proposed standard. After formal FGDC endorsement of the standard, the standard and a summary analysis of the changes will be made available to the public.

DATES: The public review period begins on May 19, 2000. Comments must be received by September 15, 2000.

FOR FURTHER INFORMATION CONTACT: The electronic version of the draft standard, in Portable Document Format (PDF), may be downloaded from vb <http://ncgmp.usgs.gov/fgdc_gds/mapsymb>.

Request for printed copies of the standard should be addressed to Matilde Moss, at <mmoss@usgs.gov> or at U.S. Geological Survey, 918 National Center, 12201 Sunrise Valley Drive, Reston, VA 20192. Note: there are a limited number of printed copies available, and so reviewers are encouraged to use the electronic version.

Reviewer's comments may be sent to the FGDC via e-mail, to <mapsymbol@geology.usgs.gov>. Review comments also may be sent by regular mail to: Map Symbol Review, c/o David R. Soller, U.S. Geological Survey, 908 National Center, Reston, VA 20192. Reviewers are strongly urged to use the review comment template—it may be downloaded from <http://ncgmp.usgs.gov/fgdc_gds/mapsymb>.

SUPPLEMENTARY INFORMATION: Following is from the Introduction to the Digital Cartographic Standard for Geologic Map Symbolization, submitted by the FGDC Geologic Data Subcommittee.

Introduction

Objective

This new draft standard is intended to provide to the Nation's producers and users of geologic map information a single, modern standard for the digital cartographic representation of geologic features. The objective in developing this national standard for geologic map symbols, colors, and patterns is to aid in the production of geologic maps and related products, as well as to help provide maps and products that have a consistent appearance.

Scope

This new draft standard contains descriptions, examples, cartographic specifications, and notes on usage for a wide variety of symbols that may be used on typical digital geologic maps or related products such as cross sections. The standard is scale-independent, meaning that the symbols are appropriate for use with geologic mapping compiled or published at any scale. It is designed for use by anyone who either produces or uses digital geologic map information.

Applicability

This new draft standard applies to any geologic map information published by the Federal Government, whether released as hard-copy (in either offset-print or plot-on-demand format) or electronically (as either Portable Document Format (PDF) files or for computer-monitor display only). Non-Federal agencies and private companies that produce geologic map information are urged to adopt this standard as well.

Related Standards

This new draft standard will supersede any existing U.S. Geological Survey (USGS) formal or informal cartographic standards for geologic map information. During preparation of this new draft standard, its relation to other standards or standards-development activities was assessed, and no significant conflicts were found.

Standards Development Procedures

In 1995, a proposed standard was informally released by the USGS (U.S. geological Survey, 1995a, 1995b). In 1996, this proposed standard was formally reviewed by geologists and cartographers in the USGS, the Association of American State Geologists (AASG), which represents the state geological surveys, and the Federal Geographic Data Committee's (FGDC) Geologic Data Subcommittee (GDS), which is composed mostly of representatives from Federal agencies that produce or use geologic map information. That review indicated the need for some revision to the proposed standard prior to its consideration by the FGDC for adoption as a Federal standard.

In 1996, plans were outlined to create a revised and updated Federal standard, and the standards-development group was formed. A proposal to develop the revised standard was submitted by the FGDC's GDS (see http://ncgmp.usgs.gov/fgdc_gds/mapsymbprop.html), and the FGDC accepted that proposal in 1997. Later that year, the standards-development group produced a preliminary, beta version of the draft standard, which was circulated among selected USGS and state geological survey personnel for review. Comments were incorporated and, in 1999, the revised draft standard (Working Draft) was submitted to the FGDC's GDS for consideration. Upon review and subsequent approval by the GDS, the Working draft was submitted to the FGDC Standards Working Group, which approved the document for public review, pending adoption of minor changes. The changes were made, and this new draft standard document (Public Review Draft) is now available to the public for review and comment.

Upon completion of the 120-day public review period, comments to the Public Review Draft will be considered, and any necessary revisions will be made. The revised draft standard document then will be submitted to the FGDC for formal approval as the Federal standard for geologic map symbolization.

Because this new standard is intended for use with digital applications, an electronic implementation of the Public Review Draft has been prepared in PostScript format. This implementation has been informally released as a USGS Open-File Report (USGS, 1999). This PostScript implementation will enable reviewers to directly apply the standard to geologic maps or illustrations prepared in desktop illustration and (or) publishing software. As the formally approved standard evolves, the PostScript implementation will be updated as well. Additionally, partial work on an ArcInfo (v.7x) implementation has been completed, and this implementation may also be informally released as a USGS Open-File Report in the future. Information regarding updates to these and other implementation efforts will be posted on FGDC's GDS website (http://ncgmp. usg.gov/ fgdc_gds).

The Public Review Draft document is available in both printed and PDF formats. For information on the review mechanism and the deadline for submittal of review comments, as well as on how to obtain copies of the Public Review Draft, please see FGDC's GDS website (http:// ncgmp.usgs. gov/ fgdc _gds). Questions or comments may be addressed by e-mail to <mapsymbol@ geology.usgs.gov> or, if preferred, by regular mail to Map Symbol Review, c/o David R. Soller, National Geologic Map Database project, U.S. Geological Survey, 908 National Center, Reston, Virginia, 20192.

Maintenance Authority

On behalf of the FGDC, the USGS will maintain the Federal standard; the responsibility for coordinating Federal geologic mapping information is stipulated by Office of Management and Budget Circular A-16 (see http://www.whitehouse.gov/omb/circulars/a016/a016.html). The Geologic Mapping Act of 1992 (and subsequent reauthorizations) stipulates a requirement for standards development under the auspices of the National Geologic Map Database (NGMDB). Under this authority, the NGMDB project will function on behalf of the USGS as coordinator of this maintenance activity (see http://ncgmp. usgs. gov/ngmdbproject/standards/general.html). Maintenance will be conducted in cooperation primarily with the AASG, which is the USGS's partner in the Geologic Mapping Act.

To assist in its maintenance efforts, the NMGDB project will coordinate a standing committee that, as needed, will review comments and suggestions for revisions, additions, and deletions to the standard. Committee membership will be drawn from, among others, the NGMDB project, the USGS scientific staff and Publications Groups, the AASG, and the academic community. This standards-maintenance mechanism will be tested by forming the committee before completion of the FGDC public review period, so that the committee might both help the GDS evaluate the comments received and assist in preparing the final version to be submitted for formal approval by the FGDC.

Dated: May 4, 2000.
P. Patrick Leahy,
Chief Geologist, U.S. Geological Survey.

[FR Doc. 00-11654 Filed 5-9-00; 8:45 am]

BILLING CODE 4310-Y7-M